DEPARTMENT OF ENERGY

Federal Energy Regulatory Commission

[Docket Nos. PR17-60-001; PR17-60-002]

Atmos Pipeline-Texas; Notice of Technical Conference

Take notice that an informal technical conference concerning the above-captioned proceedings will be convened by phone on April 18, 2018, at 2:00 p.m. (EDT). The purpose of the teleconference will be to discuss comments filed in the proceeding.

All interested parties are invited to participate by phone. Please email Deirdra Archie at deirdra.archie@ferc.gov or call (202) 502-6819 by Tuesday, April 17, 2018, to RSVP and to receive specific instructions on how to participate.

Dated: April 6, 2018.
Kimberly D. Bose,
Secretary.

[FR Doc. 2018-07552 Filed 4-11-18; 8:45 am]

BILLING CODE 6717-01-P